DEPARTMENT OF VETERANS AFFAIRS

38 CFR Part 38

RIN 2900-AP75

Authority To Solicit Gifts and Donations

AGENCY: Department of Veterans Affairs.

ACTION: Direct final rule; confirmation of effective date.

SUMMARY: On July 11, 2016, the Department of Veterans Affairs (VA) published a direct final rule amending its regulation that governs soliciting contributions from the public by officials and employees of NCA, or authorizing the use of officials' or employees' names, name of the Secretary, or the name of VA for the purpose of making a gift or donation to VA. VA received two supportive comments and no adverse comments concerning the direct final rule and its companion substantially identical proposed rule published in the Federal Register on the same date. This document confirms that the direct final rule became effective on September 9, 2016. In a companion document in this issue of the Federal Register, we are withdrawing as unnecessary the proposed rule.

DATES: The effective date of September 9, 2016, for the direct final rule published July 11, 2016, 81 FR 44792, is confirmed.

FOR FURTHER INFORMATION CONTACT: Thomas Howard, Chief of Staff, National Cemetery Administration (NCA), Department of Veterans Affairs, (40A), 810 Vermont Avenue NW., Washington, DC 20420, (202) 461-6215. (This is not a toll-free number.)

SUPPLEMENTARY INFORMATION: In a direct final rule published in the Federal Register on July 11, 2016, at 81 FR 44792, VA amended 38 Code of Federal Regulations (CFR) 38.603(b), giving the Under Secretary of Memorial Affairs (USMA), or his designee, authority to solicit gifts and donations, or approve the solicitation of gifts and donations from the public. VA published a companion substantially-identical proposed rule on the same date, at 81 FR 44827, to serve as a proposal for the revisions in the direct final rule in case adverse comments were received. The direct final rule and proposed rule each provided a 30-day comment period that ended on August 10, 2016. No adverse comments were received. Two comments that supported the rulemaking were received from the general public. VA is not making any changes to this rulemaking based on the comments.

Under the direct final rule procedures that were described in 81 FR 44827 and 81 FR 44792, the direct final rule became effective on September 9, 2016, because no adverse comments were received within the comment period. In a companion document in this issue of the Federal Register, VA is withdrawing the proposed rulemaking, RIN 2900-AP74, published at 81 FR 44827, as unnecessary.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on September 16, 2016, for publication.

Dated: September 19, 2016.
Jeffrey Martin,
Office Program Manager, Office of Regulation Policy & Management, Office of the Secretary, Department of Veterans Affairs.

[FR Doc. 2016-22834 Filed 9-21-16; 8:45 am]

BILLING CODE 8320-01-P